DEPARTMENT OF HEALTH AND HUMAN SERVICES

Substance Abuse and Mental Health Services Administration

Center for Substance Abuse Treatment; Notice of Meeting

Pursuant to Pubic Law 92-463, notice is hereby given that the 35th meeting of the Substance Abuse and Mental Health Service Administration's (SAMHSA) Center for Substance Abuse Treatment (CSAT) National Advisory Council will be held September 19-20, 2002.

A portion of the meeting is open and includes discussion of the Center's policy issues and current administrative, legislative, and program developments. Reports to the Council will include the National Treatment Plan; Women, Youth and Families Task Force; Seclusion and Restraint; and Buprenorphine/Methadone. Council will also hear presentations from SAMHSA's Administrator; SAMHSA/CSAT Director; Acting Director, National Institute on Alcohol Abuse and Alcoholism, NIH; Executive Director, New Freedom Commission on Mental Health; and Acting Director, SAMHSA's Center for Substance Abuse Prevention. The Council will receive input on Oral Fluid Testing in Opioid Treatment Programs.

The meeting will also include the review, discussion, and evaluation of individual grant applications. Therefore a portion of the meeting will be closed to the public as determined by the SAMHSA Administrator, in accordance with Title 5 U.S.C. 552b(c) and (6) and 5 U.S.C. App. 2, Section 10(d).

SAMHSA/CSAT welcomes the attendance of the public at its advisory committee, and will make every effort to accommodate persons with physical disabilities or special needs. If you require special accommodations due to a disability, please inform the contact person at least 7 days in advance of the meeting. Substantive program information, a summary of the meeting and a roster of Council members may also be obtained from the contact person.

Committee Name: Center for Substance Abuse Treatment, National Advisory Council.

Meeting Dates: September 19, 2002—9 a.m.—5 p.m., September 20, 2002—9 a.m.—1 p.m.

Place: Bethesda Marriott, 5151 Pooks Hill Road, Bethesda, Maryland 20814.

Type: Open: September 19, 2002—9 a.m.—5 p.m., Closed: September 20, 2002—9 a.m.—9:30 a.m., Open: September 20, 2002—9:30 a.m.—1 p.m.

Contact: Cynthia Graham, SAMHSA/CSAT NAC, 5600 Fishers Lane, RW II, Ste 618, Rockville, MD 20857, (301) 443-8923, Fax: (301) 480-6077.

Dated: August 29, 2002.
Toian Vaughn,
Committee Management Officer, Substance Abuse and Mental Health Services Administration.

[FR Doc. 02-22911 Filed 9-9-02; 8:45 am]

BILLING CODE 4162-20-P